DEPARTMENT OF TRANSPORTATION

Federal Aviation Administration

14 CFR Part 39

[Docket No. FAA-2019-0485; Product Identifier 2019-NM-064-AD; Amendment 39-19757; AD 2019-20-04]

RIN 2120-AA64

Airworthiness Directives; Airbus SAS Airplanes

AGENCY: Federal Aviation Administration (FAA), Department of Transportation (DOT).

ACTION: Final rule.

SUMMARY: The FAA is adopting a new airworthiness directive (AD) for all Airbus SAS Model A330-243, A330-243F, A330-341, A330-342, and A330-343 airplanes. This AD was prompted by reports of thrust reverser unit (TRU) beams found with evidence of thermally caused material degradation in the rearmost section of the TRU beam at certain latches. This AD requires an inspection for heat damage of each left-hand and right-hand TRU beam as specified in a European Union Aviation Safety Agency (EASA) AD, which is incorporated by reference. Depending on findings, this AD might also require inspections of the TRU beam latches, the TRU beam clevises, and the thrust reverser outer fixed structure rear area; corrective actions; and replacement of TRU beams. The FAA is issuing this AD to address the unsafe condition on these products.

DATES: This AD is effective December 18, 2019.

The Director of the Federal Register approved the incorporation by reference of a certain publication listed in this AD as of December 18, 2019.

ADDRESSES: For the material incorporated by reference (IBR) in this AD, contact the EASA, Konrad-Adenauer-Ufer 3, 50668 Cologne, Germany; telephone +49 221 89990 1000; email ADs@easa.europa.eu; internet www.easa.europa.eu. You may find this IBR material on the EASA website at https://ad.easa.europa.eu. You may view this IBR material at the FAA, Transport Standards Branch, 2200 South 216th St., Des Moines, WA. For information on the availability of this material at the FAA, call 206-231-3195. It is also available in the AD docket on the internet at https://www.regulations.gov by searching for and locating Docket No. FAA-2019-0485.

Examining the AD Docket

You may examine the AD docket on the internet at https://www.regulations.gov by searching for and locating Docket No. FAA-2019-0485; or in person at Docket Operations between 9 a.m. and 5 p.m., Monday through Friday, except Federal holidays. The AD docket contains this final rule, the regulatory evaluation, any comments received, and other information. The address for Docket Operations is U.S. Department of Transportation, Docket Operations, M-30, West Building Ground Floor, Room W12-140, 1200 New Jersey Avenue SE, Washington, DC 20590.

FOR FURTHER INFORMATION CONTACT: Vladimir Ulyanov, Aerospace Engineer, International Section, Transport Standards Branch, FAA, 2200 South 216th St., Des Moines, WA 98198; telephone and fax 206-231-3229.

SUPPLEMENTARY INFORMATION:

Discussion

The EASA, which is the Technical Agent for the Member States of the European Union, has issued EASA AD 2018-0148R1, dated April 5, 2019 (“EASA AD 2018-0148R1”) (also referred to as the Mandatory Continuing Airworthiness Information, or “the MCAI”), to correct an unsafe condition for all Airbus SAS Model A330-243, A330-243F, A330-341, A330-342, and A330-343 airplanes.

The FAA issued a notice of proposed rulemaking (NPRM) to amend 14 CFR part 39 by adding an AD that would apply to all Airbus SAS Model A330-243, A330-243F, A330-341, A330-342, and A330-343 airplanes. The NPRM published in the Federal Register on June 26, 2019 (84 FR 30052). The NPRM was prompted by reports of TRU beams found with evidence of thermally caused material degradation in the rearmost section of the TRU beam at certain latches. The NPRM proposed to require an inspection for heat damage of each left-hand and right-hand TRU beam. The NPRM also proposed to require, depending on the findings, inspections of the TRU beam latches, the TRU beam clevises, and the thrust reverser outer fixed structure rear area; corrective actions; and replacement of TRU beams.

The FAA is issuing this AD to address degradation of TRU beams, which could lead to disconnection of the TRU from the engine, causing possible damage to the engine adjacent structure and controls and possible damage to the airplane. See the MCAI for additional background information.

Comments

The FAA gave the public the opportunity to participate in developing this final rule. The following presents the comments received on the NPRM and the FAA's response to each comment. Patrick Imperatrice expressed support for the NPRM.

Request To Allow Certain Substitutions

American Airlines identified several errors in the service information referenced in EASA AD 2018-0148R1, and requested correction of the errors through allowing certain substitutions. The commenter noted that the proposed AD requires compliance with EASA AD 2018-0148R1, which in turn references service information from Airbus, Rolls Royce, and Safran. The commenter stated that the applicable service information contains several errors when referring to part numbers, documents, and the order in which certain steps are to be done. The commenter added that Safran verified these errors. Specifically, the commenter requested that the proposed AD be revised to allow the following substitutions:

• The installation of NAS1149 series washers in lieu of AN960 washers.

• The installation of NAS6303U4 bolts in lieu of NAS6303U04 bolts.

• The use of NSA5050-4C nuts in lieu of NAS5050-4C nuts.

• The reference to “Airbus SRM 51-75” in lieu of “Rolls Royce SRM 54-02-04” for paint restoration.

• The reference to “CMM 78-30-20 Figure 39 Graphic 78-30-20-991-839-A01” in lieu of “CMM 78-30-20 Figure 38 Graphic 78-30-20-991-838-A01” for replacement of damaged right-hand thrust reverser latch covers and hardware.

• The allowance to de-energize the ground service network, as specified in aircraft maintenance manual (AMM) 24-42-00, after closing the fan cowl doors in lieu of de-energizing the ground service network before closing the fan cowl doors.

The FAA acknowledges the referenced errors and agrees with the commenter's request. The FAA has added paragraphs (h)(3) through (8) to this AD to include exceptions allowing the substitutions requested by the commenter.

Conclusion

The FAA reviewed the relevant data, considered the comments received, and determined that air safety and the public interest require adopting this final rule with the changes described previously and minor editorial changes. The FAA has determined that these minor changes:

• Are consistent with the intent that was proposed in the NPRM for addressing the unsafe condition; and

• Do not add any additional burden upon the public than was already proposed in the NPRM.

The FAA also determined that these changes will not increase the economic burden on any operator or increase the scope of this final rule.

Related IBR Material Under 1 CFR part 51

EASA AD 2018-0148R1 describes procedures for a special detailed inspection for heat damage of each left-hand and right-hand TRU beam, detailed inspections of the TRU beam latches for bush migration and cracks or deformation, detailed inspections of the TRU beam clevises for cracks and deformation, ultrasonic inspections of the thrust reverser outer fixed structure rear area for delamination, replacement of TRU beams, and corrective actions. Corrective actions include restoring paint, repairing delaminated areas, and measuring latch pin hole fitting diameters near migrated bushes. This material is reasonably available because the interested parties have access to it through their normal course of business or by the means identified in the ADDRESSES section.

Costs of Compliance

The FAA estimates that this AD affects 51 airplanes of U.S. registry. The FAA estimates the following costs to comply with this AD:

Estimated Costs for Required Actions
Labor cost | Parts cost | Cost per product | Cost on U.S. operators
1 work-hour × $85 per hour = $85 | $0 | $85 | $4,335

The FAA estimates the following costs to do any necessary on-condition actions that would be required based on the results of any required actions. The FAA has no way of determining the number of aircraft that might need these on-condition actions:

Estimated Costs of On-Condition Actions *
Labor cost | Parts cost | Cost per product
2 work-hours × $85 per hour = $170 | $0 | $170
* The table only includes the costs for on-condition inspections. The FAA has received no definitive data that would enable the agency to provide cost estimates for the on-condition corrective actions and replacement specified in this AD.

According to the manufacturer, some or all of the costs of this AD may be covered under warranty, thereby reducing the cost impact on affected individuals. The FAA does not control warranty coverage for affected individuals. As a result, the FAA has included all known costs in our cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2019-20-04 Airbus SAS: Amendment 39-19757; Docket No. FAA-2019-0485; Product Identifier 2019-NM-064-AD.

(a) Effective Date

This AD is effective December 18, 2019.

(b) Affected ADs

None.

(c) Applicability

This AD applies to all Airbus SAS Model A330-243, A330-243F, A330-341, A330-342, and A330-343 airplanes, certificated in any category.

(d) Subject

Air Transport Association (ATA) of America Code 78, Engine exhaust.

(e) Reason

This AD was prompted by reports of thrust reverser unit (TRU) beams found with evidence of thermally caused material degradation in the rearmost section of the TRU beam at certain latches. The FAA is issuing this AD to address degradation of TRU beams, which could lead to disconnection of the TRU from the engine, causing possible damage to the engine adjacent structure and controls and possible damage to the airplane.

(f) Compliance

Comply with this AD within the compliance times specified, unless already done.

(g) Requirements

Except as specified in paragraph (h) of this AD: Comply with all required actions and compliance times specified in, and in accordance with, European Union Aviation Safety Agency (EASA) AD 2018-0148R1, dated April 5, 2019 (“EASA AD 2018-0148R1”).

(h) Exceptions to EASA AD 2018-0148R1

(1) Where EASA AD 2018-0148R1 refers to its effective date, or July 27, 2018 (the effective date of EASA AD 2018-0148, dated July 13, 2018), this AD requires using the effective date of this AD.

(2) The “Remarks” section of EASA AD 2018-0148R1 does not apply to this AD.

(3) Where the service information referenced in EASA AD 2018-0148R1 specifies the installation of AN960 washers, this AD allows the installation of NAS1149 series washers.

(4) Where the service information referenced in EASA AD 2018-0148R1 specifies the installation of NAS6303U04 bolts, this AD allows the installation of NAS6303U4 bolts.

(5) Where the service information referenced in EASA AD 2018-0148R1 specifies the use of NAS5050-4C nuts, this AD allows the use of NSA5050-4C nuts.

(6) Where the service information referenced in EASA AD 2018-0148R1 refers to “Rolls Royce SRM 54-02-04” for paint restoration, for this AD replace the phrase “Rolls Royce SRM 54-02-04” with “Airbus SRM 51-75.”

(7) Where the service information referenced in EASA AD 2018-0148R1 refers to “CMM 78-30-20 Figure 38 Graphic 78-30-20-991-838-A01” for replacement of damaged right-hand thrust reverser latch covers and hardware, for this AD replace the phrase “CMM 78-30-20 Figure 38 Graphic 78-30-20-991-838-A01” with “CMM 78-30-20 Figure 39 Graphic 78-30-20-991-839-A01.”

(8) Where the service information referenced in EASA AD 2018-0148R1 specifies to de-energize the ground service network, as specified in aircraft maintenance manual (AMM) 24-42-00, before closing the fan cowl doors, this AD allows de-energizing the ground service network after closing the fan cowl doors.

(i) No Reporting Requirement

Although the service information referenced in EASA AD 2018-0148R1 specifies to submit certain information to the manufacturer, this AD does not include that requirement.

(j) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (k) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, International Section, Transport Standards Branch, FAA; or EASA; or Airbus SAS's EASA Design Organization Approval (DOA). If approved by the DOA, the approval must include the DOA-authorized signature.

(3) Required for Compliance (RC): For any service information referenced in EASA AD 2018-0148R1 that contains RC procedures and tests: Except as required by paragraph (j)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Related Information

For more information about this AD, contact Vladimir Ulyanov, Aerospace Engineer, International Section, Transport Standards Branch, FAA, 2200 South 216th St., Des Moines, WA 98198; telephone and fax 206-231-3229.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2018-0148R1, dated April 5, 2019.

(ii) [Reserved]

(3) For information about EASA AD 2018-0148R1, contact the EASA, Konrad-Adenauer-Ufer 3, 50668 Cologne, Germany; telephone +49 221 89990 6017; email ADs@easa.europa.eu; internet www.easa.europa.eu. You may find this EASA AD on the EASA website at https://ad.easa.europa.eu.

(4) You may view this material at the FAA, Transport Standards Branch, 2200 South 216th St., Des Moines, WA. For information on the availability of this material at the FAA, call 206-231-3195. This material may be found in the AD docket on the internet at https://www.regulations.gov by searching for and locating Docket No. FAA-2019-0485.

(5) You may view this material that is incorporated by reference at the National Archives and Records Administration (NARA). For information on the availability of this material at NARA, email fedreg.legal@nara.gov, or go to: https://www.archives.gov/federal-register/cfr/ibr-locations.html.

Issued in Des Moines, Washington, on September 27, 2019.
Michael Kaszycki,
Acting Director, System Oversight Division, Aircraft Certification Service.

[FR Doc. 2019-24502 Filed 11-12-19; 8:45 am]

BILLING CODE 4910-13-P